FEDERAL COMMUNICATIONS COMMISSION

47 CFR Part 73

[DA 06-514; MB Docket No. 05-117]

Radio Broadcasting Services; Bairoil and Sinclair, WY

AGENCY: Federal Communications Commission.

ACTION: Final rule.

SUMMARY: The Audio Division, on its on motion, substitutes Channel 235A for vacant Channel 265A at Bairoil, Wyoming and substitutes Channel 267C for vacant Channel 262C at Sinclair, Wyoming to resolve existing distance spacing conflicts. Channel 235A can be allotted to Bairoil, Wyoming in conformity with the Commission's rules without a site restriction at coordinates 42-14-40 NL and 107-33-32 WL. Channel 267C can be allotted to Sinclair, Wyoming consistent with the minimum distance separation requirements of Section 73.207(b) of the Commission's rules, provided there is a site restriction of 9.6 kilometers (6 miles) west of the community at coordinates 41-46-19 NL and 107-13-40 WL. This document also dismisses the counterproposal filed jointly by Michael Radio Group, permittee of Station KGRK(FM), Channel 252A, Glenrock, Wyoming and White Park Broadcasting, Inc., permittee of Station KTED(FM), Channel 265C2, Douglas, Wyoming.

DATES: Effective April 17, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-117, adopted March 1, 2006, and released March 3, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The FM Table of Allotments lists Channel 281A at Bairoil. Channel 281A at Bairoil was inadvertently added to the Table. See Wamsutter and Bairoil, Wyoming, 15 FCC Rcd 12759 (MMB 2000).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Wyoming, is amended by removing Channel 281A and adding Channel 235A at Bairoil and by removing Channel 262C and adding Channel 267C at Sinclair.

Federal Communications Commission.
John A. Karousos,
Assistant Chief, Audio Division, Media Bureau.

[FR Doc. 06-2487 Filed 3-14-06; 8:45 am]

BILLING CODE 6712-01-P